ENVIRONMENTAL PROTECTION AGENCY

[EPA-R08-OAR-2015-0450; FRL-9933-91-Region 8]

Adequacy Determination for the Cache County PM2.5 Attainment Plan's Motor Vehicle Emissions Budgets for Transportation Conformity Purposes; State of Utah

AGENCY: Environmental Protection Agency (EPA).

ACTION: Notice of adequacy.

SUMMARY: In this notice, the Environmental Protection Agency (EPA) is notifying the public that the EPA has found the following adequate for transportation conformity purposes: The Cache County, Logan, UT-ID PM2.5 Attainment Plan, Utah State Implementation Plan Section IX. Part A.23 and its motor vehicle emissions budgets (MVEB). As more fully explained in the Supplementary Information section of this notice, this finding will affect future transportation conformity determinations.

DATES: This finding is effective on September 28, 2015.

FOR FURTHER INFORMATION CONTACT: Tim Russ, Air Program, Mailcode 8P-AR, Environmental Protection Agency, Region 8, 1595 Wynkoop Street, Denver, Colorado 80202-1129, telephone number (303) 312-6479, fax number (303) 312-6064, or email russ.tim@epa.gov.

SUPPLEMENTARY INFORMATION: Throughout this document, whenever “we,” “us,” or “our,” are used, we mean the EPA. Whenever “State” is used, we mean the State of Utah.

Transportation conformity is required by section 176(c) of the Clean Air Act (CAA). The conformity rule provisions at 40 CFR 93 require that transportation plans, programs, and projects conform to a State Implementation Plan (SIP) and establish the criteria and procedures for determining whether or not they do. Conformity to a SIP means that transportation activities will not produce new air quality violations, worsen existing violations, or delay timely attainment of the National Ambient Air Quality Standard.

The criteria by which we determine whether a SIP revision's MVEBs are adequate for conformity purposes are outlined in 40 CFR 93.118(e)(4), which was promulgated August 15, 1997 (62 FR 43780). We described our process for determining the adequacy of submitted SIP MVEBs in our July 1, 2004 Transportation Conformity Rule Amendments (69 FR 40004). We used these resources in making our adequacy determinations announced in this notice.

This notice is simply an announcement of findings that we have already made and are as described below:

The Governor submitted the Cache County, Logan, UT-ID PM2.5 Attainment Plan, Utah SIP Section IX. Part A.23 ¹ to EPA on December 16, 2014. The State prepared the SIP revision submittal to meet the requirements of Part D of Title I of the CAA for PM2.5 attainment plans, subparts 1 and 4 for “moderate” areas. As part of our adequacy review, we posted the Cache County, Logan, UT-ID PM2.5 Attainment Plan, Utah SIP Section IX. Part A.23, with its identified MVEBs, for adequacy review on EPA's transportation conformity Web site on March 23, 2015 (see: http://www.epa.gov/otaq/stateresources/transconf/currsips.htm). We requested public comments by April 22, 2015. We did not receive any comments. The EPA sent a letter to the Utah Division of Air Quality on June 17, 2015, stating that the submitted Cache County, Logan, UT-ID PM2.5 Attainment Plan, Utah SIP Section IX. Part A.23 and its MVEBs were adequate for transportation conformity purposes.

¹ PM2.5 refers to particulate matter less than or equal to 2.5 microns in diameter.

For the Cache County, Logan, UT-ID PM2.5 Attainment Plan, Utah SIP Section IX. Part A.23, the MVEBs we found adequate were 0.32 tons per day (tpd) for PM2.5, 4.49 tpd for nitrogen oxides, and 3.23 tpd for volatile organic compounds. Following the effective date listed in the DATES section of this notice, the Cache County Metropolitan Planning Organization, the Utah Department of Transportation, and the U.S. Department of Transportation are required to use these MVEBs for future transportation conformity determinations for projects in the Cache County, Logan, UT-ID PM2.5 nonattainment area.

Please note that our adequacy review of the MVEBs as described above is separate from our future rulemaking action on the Cache County, Logan, UT-ID PM2.5 Attainment Plan, Utah SIP Section IX. Part A.23 revision discussed above and should not be used to prejudge our ultimate approval or disapproval of that SIP revision. Even if we find the Cache County, Logan, UT-ID PM2.5 Attainment Plan and its MVEBs adequate for transportation conformity purposes now, we may later find it necessary to disapprove the SIP revision. Should this situation arise, we would then revisit our adequacy finding.

Authority: 42 U.S.C. 7401 et seq.

Dated: August 26, 2015.
Shaun L. McGrath,
Regional Administrator, Region 8.

[FR Doc. 2015-22942 Filed 9-10-15; 8:45 am]

BILLING CODE 6560-50-P